DEPARTMENT OF COMMERCE

National Oceanic and Atmospheric Administration

Federal Consistency Appeal by Mill River Pipeline, LLC

AGENCY: National Oceanic and Atmospheric Administration (NOAA), Department of Commerce (Commerce).

ACTION: Notice of appeal.

SUMMARY: This announcement provides notice that Mill River Pipeline, LLC (Mill River) has filed an administrative appeal with the Department of Commerce asking that the Secretary override the Commonwealth of Massachusetts' objection to Mill River's proposed natural gas pipeline, which is part of a proposed liquefied natural gas terminal to be constructed in Fall River, Massachusetts.

ADDRESSES: Materials from the appeal record will be available at the NOAA Office of General Counsel for Ocean Services, 1305 East-West Highway, Room 6111, Silver Spring, MD 20910 and on the following Web site: http://www.ogc.doc.gov/czma.htm.

FOR FURTHER INFORMATION CONTACT: Brett Grosko, Attorney-Advisor, NOAA Office of General Counsel, 301-713-7384.

SUPPLEMENTARY INFORMATION:

I. Notice of Appeal

Mill River Pipeline, LLC (Mill River) filed a notice of appeal with the Secretary of Commerce pursuant to the Coastal Zone Management Act of 1972 (CZMA), 16 U.S.C. 1451 et seq., and implementing regulations found at 15 CFR part 930, subpart H. Mill River appealed an objection raised by the Commonwealth of Massachusetts, relative to the proposed construction of a liquefied natural gas pipeline, which is part of a proposed liquefied natural gas terminal to be constructed in Fall River, Massachusetts.

Under the CZMA, the Secretary may override Massachusetts' objection on grounds that the project is consistent with the objectives or purposes of the CZMA, or necessary in the interest of national security. To make the determination that the proposed activity is “consistent with the objectives or purposes” of the CZMA, the Secretary must find that: (1) The proposed activity furthers the national interest as articulated in sections 302 or 303 of the CZMA, in a significant or substantial manner; (2) the adverse effects of the proposed activity do not outweigh its contribution to the national interest, when those effects are considered separately or cumulatively; and (3) no reasonable alternative is available that would permit the activity to be conducted in a manner consistent with the enforceable policies of Massachusetts' coastal management program. 15 CFR 930.121. To make the determination that the proposed activity is “necessary in the interest of national security,” the Secretary must find that a national defense or other national security interest would be significantly impaired were the proposed activity not permitted to go forward as proposed. 15 CFR 930.122.

II. Appeal Documents

NOAA intends to provide the public with access to all publicly available materials and related documents comprising the appeal record during business hours, at the NOAA Office of General Counsel for Ocean Services.

For additional information about this appeal contact Brett Grosko, 301-713-7384.

[Federal Domestic Assistance Catalog No. 11.419 Coastal Zone Management Program Assistance.]

Dated: September 21, 2007.
Joel La Bissonniere,
Assistant General Counsel for Ocean Services.

[FR Doc. E7-19047 Filed 9-25-07; 8:45 am]

BILLING CODE 3510-08-P